COMMITTEE FOR PURCHASE FROM PEOPLE WHO ARE BLIND OR SEVERELY DISABLED

Procurement List; Additions and Deletions

AGENCY: Committee for Purchase From People Who Are Blind or Severely Disabled.

ACTION: Deletions from the Procurement List.

SUMMARY: This action deletes product(s) from the Procurement List that were furnished by nonprofit agencies employing persons who are blind or have other severe disabilities.

DATES: Date to be deleted from the Procurement List: February 2, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION:

Deletions

On November 29, 2024 (89 FR 94715), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) are deleted from the Procurement List:

Product(s)

NSN(s)—Product Name(s):

8405-01-540-2346—Blouse, Working, NWU, Navy, Men's, Digital Camouflage, X Small, X Short

8405-01-540-2349—Blouse, Working, NWU, Navy, Men's, Digital Camouflage, X Small, Short

8405-01-540-2354—Blouse, Working, NWU, Navy, Men's, Digital Camouflage, X Small, Regular

8405-01-540-2359—Blouse, Working, NWU, Navy, Men's, Digital Camouflage, X Small, Long

8405-01-540-2363—Blouse, Working, NWU, Navy, Men's, Digital Camouflage, Small, XX Short

8405-01-540-2365—Blouse, Working, NWU, Navy, Men's, Digital Camouflage, Small, X Short

8405-01-540-2369—Blouse, Working, NWU, Navy, Men's, Digital Camouflage, Small, Short

8405-01-540-2374—Blouse, Working, NWU, Navy, Men's, Digital Camouflage, Small, Regular

8405-01-540-2376—Blouse, Working, NWU, Navy, Men's, Digital Camouflage, Small, Long

8405-01-540-2379—Blouse, Working, NWU, Navy, Men's, Digital Camouflage, Small, X Long

8405-01-540-2381—Blouse, Working, NWU, Navy, Men's, Digital Camouflage, Medium, XX Short

8405-01-540-2389—Blouse, Working, NWU, Navy, Men's, Digital Camouflage, Medium, X Short

8405-01-540-2419—Blouse, Working, NWU, Navy, Men's, Digital Camouflage, Medium, Short

8405-01-540-2423—Blouse, Working, NWU, Navy, Men's, Digital Camouflage, Medium, Regular

8405-01-540-2436—Blouse, Working, NWU, Navy, Men's, Digital Camouflage, Medium, Long

8405-01-540-2438—Blouse, Working, NWU, Navy, Men's, Digital Camouflage, Medium, X Long

8405-01-540-2441—Blouse, Working, NWU, Navy, Men's, Digital Camouflage, Medium, XX Long

8405-01-540-2442—Blouse, Working, NWU, Navy, Men's, Digital Camouflage, Large, X Short

8405-01-540-2446—Blouse, Working, NWU, Navy, Men's, Digital Camouflage, Large, Short

8405-01-540-2447—Blouse, Working, NWU, Navy, Men's, Digital Camouflage, Large, Regular

8405-01-540-2449—Blouse, Working, NWU, Navy, Men's, Digital Camouflage, Large, Long

8405-01-540-2452—Blouse, Working, NWU, Navy, Men's, Digital Camouflage, Large, X Long

8405-01-540-2453—Blouse, Working, NWU, Navy, Men's, Digital Camouflage, Large, XX Long

8405-01-540-2456—Blouse, Working, NWU, Navy, Men's, Digital Camouflage, X Large, Short

8405-01-540-2458—Blouse, Working, NWU, Navy, Men's, Digital Camouflage, X Large, Regular

8405-01-540-2463—Blouse, Working, NWU, Navy, Men's, Digital Camouflage, X Large, Long

8405-01-540-2467—Blouse, Working, NWU, Navy, Men's, Digital Camouflage, X Large, X Long

8405-01-540-2468—Blouse, Working, NWU, Navy, Men's, Digital Camouflage, X Large, XX Long

8405-01-540-2470—Blouse, Working, NWU, Navy, Men's, Digital Camouflage, XX Large, Regular

8405-01-540-2472—Blouse, Working, NWU, Navy, Men's, Digital Camouflage, XX Large, Long

8405-01-540-2475—Blouse, Working, NWU, Navy, Men's, Digital Camouflage, XX Large, X Long

8405-01-540-2478—Blouse, Working, NWU, Navy, Men's, Digital Camouflage, XX Large, XX Long

8405-01-540-2455—Blouse, Working, NWU, Navy, Women's, Digital Camouflage, 42 Short

8405-01-540-2482—Blouse, Working, NWU, Navy, Women's, Digital Camouflage, 32 X Short

8405-01-540-2484—Blouse, Working, NWU, Navy, Women's, Digital Camouflage, 32 Short

8405-01-540-2486—Blouse, Working, NWU, Navy, Women's, Digital Camouflage, 35 X Short

8405-01-540-2590—Blouse, Working, NWU, Navy, Women's, Digital Camouflage, 35 Short

8405-01-540-2714—Blouse, Working, NWU, Navy, Women's, Digital Camouflage, 35 Regular

8405-01-540-2716—Blouse, Working, NWU, Navy, Women's, Digital Camouflage, 39 X Short

8405-01-540-2718—Blouse, Working, NWU, Navy, Women's, Digital Camouflage, 39 Short

8405-01-540-2719—Blouse, Working, NWU, Navy, Women's, Digital Camouflage, 32 Regular

8405-01-540-3015—Blouse, Working, NWU, Navy, Women's, Digital Camouflage, 43 Regular

Authorized Source of Supply: Blind Industries & Services of Maryland, Baltimore, MD

Contracting Activity: DLA TROOP SUPPORT, PHILADELPHIA, PA

NSN(s)—Product Name(s):

8465-01-521-7815—Load Lifter Attachment Strap, MOLLE Components, Woodland Camouflage

Contracting Activity: DLA TROOP SUPPORT, PHILADELPHIA, PA

NSN(s)—Product Name(s):

8470-01-599-0789—Retention Assembly, X-Back (D-ring), Foliage Green, XSM

8470-01-599-0791—Retention Assembly, X-Back (D-ring), Foliage Green, SM/MED

8470-01-599-0793—Retention Assembly, X-Back (D-ring), Foliage Green, LG/XLG

8470-01-599-0794—Retention Assembly, X-Back (D-ring), Foliage Green, XXLG

Authorized Source of Supply: San Antonio Lighthouse for the Blind, San Antonio, TX

Contracting Activity: W6QK ACC-APG NATICK, NATICK, MA

Ramon Barreto,
Business Management Specialist, Business Operations.

[FR Doc. 2024-31548 Filed 1-2-25; 8:45 am]

BILLING CODE 6353-01-P